DEPARTMENT OF ENERGY

Federal Energy Regulatory Commission

[Docket No. ER97-4335-007, et al.]

GEN-SYS Energy, et al.; Electric Rate and Corporate Filings

April 6, 2004.

The following filings have been made with the Commission. The filings are listed in ascending order within each docket classification.

1. GEN-SYS Energy

[Docket No. ER97-4335-007]

Take notice that on April 1, 2004, GEN-SYS Energy (GEN-SYS) submitted a compliance filing pursuant to the Commission's order issued March 2, 2004, in Docket No. ER97-4335-006.

Comment Date: April 22, 2004.

2. ISO New England Inc.

[Docket No. ER02-2153-007]

Take notice that on April 1, 2004, ISO New England Inc. (ISO) submitted a compliance report pursuant to the Commission's order dated July 31, 2002, issued in Dcoket No. ER02-2153-000.

ISO states that copies of the filing have been served upon all parties to this proceeding and the New England utility regulatory agencies, and electronically upon the New England Power Pool participants.

Comment Date: April 22, 2004.

3. New England Power Pool, ISO New England Inc.

[Docket No. ER02-2330-026]

Take notice that on March 31, 2004, ISO New England Inc. (ISO) submitted a Status Report on Development of Day-Ahead Demand Response Program in compliance with the Commission's November 17, 2003 Order on Requests for Rehearing and Compliance Filing, 105 FERC ¶ 61,211.

The ISO states that copies of the filing have been served on all parties to the above-captioned proceeding.

Comment Date: April 21, 2004.

4. San Diego Gas & Electric Company

[Docket No. ER03-601-003]

Take notice that on April 1, 2004, San Diego Gas & Electric Company (SDG&E) tendered for filing its refund report pursuant to the Commission's Order Approving Uncontested Settlement, issued December 18, 2003, in Docket No. ER03-601-000, 105 FERC ¶ 61,301 (2003).

SDG&E states that copies of the filing were served on the California Public Utilities Commission, the California Independent System Operator, and all other parties in Docket No. ER03-601-000.

Comment Date: April 22, 2004.

5. New York Independent System Operator, Inc.

[Docket No. ER04-230-004]

Take notice that on April 1, 2004, the New York Independent System Operator, Inc. (NYISO) submitted responses to the questions posed by the Commission's March 18, 2004, letter in Docket No. ER04-230-002 regarding the NYISO's Emergency Request for Rehearing in this proceeding.

The NYISO states that a copy of this filing has been served on all parties named on the official service list for this proceeding.

Comment Date: April 22, 2004.

6. Conectiv Bethlehem, LLC

[Docket No. ER04-231-002]

Take notice that on April 1, 2004, Conectiv Bethlehem, LLC (CBLLC), submitted a compliance filing pursuant to the Commission's March 24, 2004, order in Docket Nos. ER04-231-000 and 001, 106 FERC ¶ 61,272.

CBLLC states that copies of the filing were served upon the official service list in this proceeding.

Comment Date: April 22, 2004.

7. Duke Energy Lee, LLC

[Docket No. ER04-641-001]

Take notice that on April 1, 2004, Duke Energy Lee, LLC (Duke Lee) tendered for filing a supplement to its March 12, 2004, filing in ER04-641-000. Duke Lee requests an effective date of the date Commonwealth Edison Company (ComEd) joints PJM.

Comment Date: April 22, 2004.

8. Pacific Gas and Electric Company

[Docket No. ER04-688-000]

Take notice that on March 31, 2004, Pacific Gas and Electric Company (PG&E) tendered for filing, both on behalf of itself and Southern California Edison Company (SCE) a proposed Notice of Cancellation of PG&E Rate Schedule FERC No. 35 and SCE Rate Schedule No. 37. PG&E states that PG&E and SCE propose to terminate service they provide under the Contract with California Companies for Extra High Voltage Transmission and Exchange Service, Contract No. 14-006-200-2947A, between the Western Area Power Administration (Western) and PG&E, San Diego Gas & Electric Company (SDG&E) and SCE as of the date this contract expires, which is January 1, 2005.

PG&E states that copies of this filing have been served on Western, SCE, SDG&E, the California Public Utilities Commission and the California Independent System Operator Corporation.

Comment Date: April 21, 2004.

9. Pacific Gas and Electric Company

[Docket No. ER04-689-000]

Take notice that on March 31, 2004, Pacific Gas and Electric Company (PG&E) tendered for filing, both on behalf of itself and Southern California Edison Company (SCE) proposed Notices of Cancellation of PG&E Rate Schedule FERC Nos. 36 and 37 and SCE Rate Schedule FERC Nos. 38 and 39. PG&E states that PG&E and SCE propose to terminate service they provide under the Contract Between California Companies and State of California Department of Water Resources for Extra High Voltage Transmission and Exchange Service and the Contract Between California Companies and Sacramento Municipal Utility District for Extra High Voltage Transmission and Exchange Service as of the date these contracts expire, which is January 1, 2005.

PG&E states that copies of this filing have been served on California Department of Water Resources, Sacramento Municipal Utility District, the California Public Utilities Commission, the California Independent System Operator Corporation, SCE and San Diego Gas & Electric Company.

Comment Date: April 21, 2004.

10. Pacific Gas and Electric Company

[Docket No. ER04-690-000]

Take notice that on March 31, 2004, Pacific Gas and Electric Company (PG&E) tendered for filing proposed Notices of Cancellation of PG&E Rate Schedule FERC Nos. 79, 63, 81, 126, 151 and 152 (between Western Area Power Administration (Western) and PG&E) and Notices of Cancellation of FERC Nos. 75 and 76 (between PG&E and Calaveras Public Power Agency and Tuolumne County Public Power Agency, respectively.) PG&E states that it proposes to terminate service it provides under these rate schedules as of the date the contracts between Western and PG&E expire, which is January 1, 2005. Included in the filing is one redesignated agreement and three proposed unexecuted replacement agreements, all between PG&E and Western.

PG&E states that copies of this filing have been served on Western, Calaveras Public Power Agency, Tuolumne County Public Power Agency, the California Public Utilities Commission, the California Independent System Operator Corporation, and all other affected parties.

Comment Date: April 21, 2004.

11. Alabama Power Company

[Docket No. ER04-692-000]

Take notice that on March 31, 2004, Alabama Power Company (APC) filed Revision No. 9 to Rate Schedule REA-1 of APC's FERC Electric Tariff, Original Volume No. 1. APC states that the revision sets forth the agreement between APC and Black Warrior Electric Membership Corporation and Tombigbee Electric Cooperative, Inc. regarding a rate increase. APC requests an effective date of July 1, 2004.

Comment Date: April 21, 2004.

12. Pacific Gas and Electric Company

[Docket No. ER04-693-000]

Take notice that on March 31, 2004, Pacific Gas and Electric Company (PG&E) tendered for filing a proposed Notice of Cancellation of PG&E Rate Schedule FERC No. 146. PG&E states that it proposes to terminate service it provides under the Coordinated Operations Agreement between Southern California Edison Company (SCE) and the Participants in the California-Oregon Transmission Project Governing the Coordinated Operation of the Pacific AC Intertie and the California-Oregon Transmission Project as of the date this contract expires, which is January 1, 2005. Included in the filing is a proposed unexecuted successor agreement.

PG&E states that copies of this filing have been served on the California Public Utilities Commission, Western Area Power Administration, Transmission Agency of Northern California, Carmichael Water District, City of Shasta Lake, City of Vernon, San Diego Gas & Electric Company, SCE, San Juan Suburban Water District, the California Independent System Operator Corporation and Bonneville Power Administration.

Comment Date: April 21, 2004.

13. Vermont Electric Cooperative, Inc.

[Docket No. ER04-694-000]

Take notice that on March 31, 2004, Vermont Electric Cooperative, Inc. (VEC) tendered for filing pursuant to section 205 of the Federal Power Act an Application for Market-Based Rate Authority. VEC requests an effective date of January 1, 2003.

VEC states that copies of the filing were mailed to the Vermont Public Service Board, the Vermont Department of Public Service, and the Secretary and General Counsel of New England Power Pool.

Comment Date: April 21, 2004.

14. New York Independent System Operator, Inc.

[Docket No. ER04-696-000]

Take notice that on March 31, 2004, the New York Independent System Operator, Inc. (NYISO), filed proposed revisions to the NYISO's Market Administration and Control Area Services Tariff (Services Tariff) and Open Access Transmission Tariff (OATT). NYISO states that the proposed revisions are intended to remove a condition on the application of certain rules limiting the extent to which prices at the Hydro Quobec external proxy bus can move to non-competitive levels. NYISO has requested an effective date of May 30, 2004.

NYISO states that copies of this filing were served on all parties that have executed Service Agreements under the NYISO's OATT or Services Tariff, the New York State Public Service Commission and the electric utility regulatory agencies in New Jersey and Pennsylvania.

Comment Date: April 21, 2004.

15. New England Power Pool

[Docket No. ER04-697-000]

Take notice that on April 2, 2004, the New England Power Pool (NEPOOL) Participants Committee filed the One Hundred Third Agreement Amending New England Power Pool Agreement (the 103 Agreement) which amends and restates NEPOOL's existing Financial Assurance Policies and Billing Policy to implement a system for the weekly billing of and payment for charges in NEPOOL's hourly markets, and makes a conforming change to section 8.2 of the NEPOOL Open Access Transmission Tariff (the NEPOOL Tariff). NEPOOL seeks a June 1, 2004, effective date for these amendments.

The NEPOOL Participants Committee states that copies of these materials were sent to NEPOOL Participants and the New England State governors and regulatory commissions.

Comment Date: April 22, 2004.

16. Pacific Gas and Electric Company

[Docket No. ER04-700-000]

Take notice that on April 1, 2004, Pacific Gas and Electric Company (PG&E) tendered for filing a Coordinated Operations and Interconnection Agreement (COIA) between PG&E, Trans-Elect NTD Path 15 LLC and Western Area Power Administration.

PG&E states that copies of this filing have been served upon the California Public Utilities Commission and the California Independent System Operator Corporation and all parties on the official service list in Docket ER02-1672-000.

Comment Date: April 22, 2004.

17. American Electric Power Service Corporation

[Docket No. ER04-701-000]

Take notice that on April 1, 2004, American Electric Power Service Corporation (AEPSC) submitted for filing notices of succession reflecting the changes in name from Central Power and Light Company to AEP Texas Central Company and from West Texas Utilities Company to AEP Texas North Company.

Comment Date: April 22, 2004.

Standard Paragraph

Any person desiring to intervene or to protest this filing should file with the Federal Energy Regulatory Commission, 888 First Street, NE., Washington, DC 20426, in accordance with rules 211 and 214 of the Commission's rules of practice and procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov, using the “FERRIS” link. Enter the docket number excluding the last three digits in the docket number filed to access the document. For assistance, call (202) 502-8222 or TTY, (202) 502-8659. Protests and interventions may be filed electronically via the Internet in lieu of paper; see 18 CFR 385.2001(a)(1)(iii) and the instructions on the Commission's Web site under the “e-Filing” link. The Commission strongly encourages electronic filings.

Linda Mitry,
Acting Secretary.

[FR Doc. E4-836 Filed 4-14-04; 8:45 am]

BILLING CODE 6717-01-P